NATIONAL AERONAUTICS AND SPACE ADMINISTRATION

[Notice: 13-133]

NASA Advisory Council; Aeronautics Committee; Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council. This Committee reports to the NAC. The meeting will be held for the purpose of soliciting, from the aeronautics community and other persons, research and technical information relevant to program planning.

DATES: Tuesday, December 3, 2013, 9:00 a.m. to 3:45 p.m.; Local Time.

ADDRESSES: National Institute of Aerospace Headquarters, Room 101, 100 Exploration Way, Hampton, VA 23666.

FOR FURTHER INFORMATION CONTACT: Ms. Susan L. Minor, Executive Secretary for the Aeronautics Committee, NASA Headquarters, Washington, DC 20546, (202) 358-0566, or susan.l.minor@nasa.gov.

SUPPLEMENTARY INFORMATION: The meeting will be open to the public up to the capacity of the room. Any person interested in participating in the meeting by WebEx and telephone should contact Ms. Susan L. Minor at (202) 358-0566 for the web link, toll-free number and passcode. The agenda for the meeting includes the following topics:

• Langley Research Center Overview

• National Research Council Autonomy Study Update

• Rotary Wing Project Discussion

• Advanced Composites Project Planning Update

It is imperative that these meetings be held on this date to accommodate the scheduling priorities of the key participants.

Patricia D. Rausch,
Advisory Committee Management Officer, National Aeronautics and Space Administration.

[FR Doc. 2013-27855 Filed 11-20-13; 8:45 am]

BILLING CODE 7510-13-P